DEPARTMENT OF JUSTICE

Drug Enforcement Administration

Manufacturer of Controlled Substances; Notice of Registration; Correction—Penick Corp.

On March 13, 2003, a Notice of Registration was published in the Federal Register (68 FR 12104) for Penick Corporation, 158 Mount Olivet Avenue, Newark, New Jersey 07114, which was wrongly entitled Importer of Controlled Substances. The Notice should have been entitled Manufacturer of Controlled Substances. All other information contained therein was correctly stated.

Dated: March 21, 2003.
Laura M. Nagel,
Deputy Assistant Administrator, Office of Diversion Control, Drug Enforcement Administration.

[FR Doc. 03-8586 Filed 4-8-03; 8:45 am]

BILLING CODE 4410-09-M